NATIONAL CREDIT UNION ADMINISTRATION

Sunshine Act Meeting

Time and Date: 10 a.m., Thursday, May 22, 2003.

Place: Board Room, 7th Floor, Room 7047, 1775 Duke Street, Alexandria, VA 22314-3428.

Status: Open.

Matters to be Considered: 1. Issuance of the Final Version of Corporate Federal Credit Union Bylaws.

2. Final Rule: Section 709.13 of NCUA's Rules and Regulations, Treatment of Swap Agreements in Liquidation or Conservatorship.

3. Final Rule: Part 703 of NCUA's Rules and Regulations, Investment and Deposit Activities.

4. Final Rule: Interpretive Ruling and Policy Statement (IRPS) 03-2 Amending IRPS 87-2, Definition of Small Credit Union.

FOR FURTHER INFORMATION CONTACT: Becky Baker, Secretary of the Board, Telephone 703-518-6304.

Becky Baker,
Secretary of the Board.

[FR Doc. 03-12688 Filed 5-15-03; 3:50 pm]

BILLING CODE 7535-01-M